DEPARTMENT OF COMMERCE

National Oceanic and Atmospheric Administration

RIN 0648-XW48

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in Sitka, AK.

DATES: The meetings will be held June 7 through June 15, 2010. The Council will begin its plenary session at 8 a.m. on Wednesday, June 9 continuing through Tuesday, June 15. The Council's Advisory Panel (AP) will begin at 8 a.m., Wednesday, June 7 and continue through Saturday June 12. The Scientific and Statistical Committee (SSC) will begin at 8 a.m. on Monday, June 7 and continue through Wednesday, June 9, 2010. The Enforcement Committee will meet Wednesday, June 8 from 1 p.m. to 5 p.m. at the Westmark Hotel, 330 Seward Street, Room ????, Sitka, AK. All meetings are open to the public, except executive sessions.

ADDRESSES: The meetings will be held at Harrigan Centennial Hall, 330 Harbor Drive, Sitka, AK. The Enforcement Committee meeting will be held at the Westmark Hotel, 330 Seward Street, Sitka, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: Council Plenary Session: The agenda for the Council's plenary session will include the following issues. The Council may take appropriate action on any of the issues identified.

Reports:

1. Executive Director's Report

NMFS Management Report (including review of Amendment 91 proposed rule)

ADF&G Report

NOAA Enforcement Report

U.S. Coast Guard Report

U.S. Fish & Wildlife Service Report

Protected Species Report

2. Bering Sea Aleutian Island (BSAI) Chum Salmon Bycatch: receive update on outreach initiatives; review discussion paper and finalize alternatives for analysis; update on chum and Chinook salmon genetics research and sampling.

3. BSA Crab Annual Catch Limits (ACLs) and Rebuilding Plans: Initial review of analysis to establish ACLs and rebuild snow crab; approve Crab Stock Assessment Fishery Evaluation (SAFE)/Over Fishing Levels (OFLs) as necessary; review Prohibited Species Catch (PSC).

4. Scallop ACLs: Initial review of analysis to establish scallop ACLs.

5. Observer Program Restructuring: Initial review of analysis on program restructuring; receive report from Observer Committee.

6. Central Gulf of Alaska (GOA) Rockfish program: Final action on CGOA Catch Share Program.

7. Amendment 80 Program: Receive report on Groundfish Retention Standards (GRS) program. Final action on amendment for lost vessels replacement.

8. Groundfish Management: Initial review of analysis for GOA Pacific cod sideboards for crab vessels; initial review of analysis to adjust Maximum Retainable Amount (MRAs) in BSAI arrowtooth fishery.

9. Miscellaneous Issues: Review preliminary discussion paper on GOA halibut PSC; receive briefing on Alaska MPAs and fishery overlap; review Pacific cod assessment model run proposals (SSC only); review Council request for Tier 6 Working Group (SSC only); American Fisheries Act (AFA) preliminary report removal - initial/final action.

10. Staff Tasking: Review Committees and tasking.

11. Other Business

The SSC agenda will include the following issues:

1. Crab ACLs/Rebuilding

2. Crab SAFE

3. Scallop ACLs

4. Observer Program

5. Groundfish Management

6. Salmon genetics and sampling

7. Miscellaneous Issues

The Advisory Panel will address most of the same agenda issues as the Council, except for #1 reports. The Agenda is subject to change, and the latest version will be posted at http://www.alaskafisheries.noaa.gov/npfmc/.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: May 13, 2010.
Tracey L. Thompson,
Acting Director, Office of Sustainable Fisheries, National Marine Fisheries Service.

[FR Doc. 2010-11894 Filed 5-18-10; 8:45 am]

BILLING CODE 3510-22-S